DEPARTMENT OF HEALTH AND HUMAN SERVICES

Administration for Children and Families

[CFDA Number: 93.569]

Announcing the Award of a Single Source Expansion Supplement to Community Action Partnership in Washington, DC

AGENCY: Office of Community Services, ACF, HHS.

ACTION: Notice of award of a single-source expansion supplement to Community Action Partnership in Washington, DC, to create a new learning cluster focused on child poverty in rural communities and expanding access to multi-generational programs.

SUMMARY: The Administration for Children and Families (ACF), Office of Community Services (OCS), Division of State Assistance announces a single-source program expansion supplement in the amount of $50,000 to Community Action Partnership in Washington, DC 20036. The supplement will support the creation of a new learning cluster focused on addressing child poverty in rural communities and tribal lands and increasing access to multi-generational programs. This effort supports a recent Administration initiative, Rural Impact. Rural Impact is a new effort, overseen by the White House Rural Council, to bring together federal agencies and public and private partners to support a multi-generational approach to investing in rural families, communities, and tribal places.

DATES: The period of support is May 15, 2015-September 29, 2015.

FOR FURTHER INFORMATION CONTACT: Seth Hassett, Division Director, Office of Community Services, 330 C Street SW., Washington, DC 20201. Telephone: 202-401-2333; Email: seth.hassett@acf.hhs.gov

SUPPLEMENTARY INFORMATION: The White House Rural Council recently launched Rural Impact, a new effort to bring together federal agencies and public and private partners to support a multi-generational approach to investing in rural families and communities. HHS is a member of the federal interagency team that supports this effort. Within HHS, the Administration for Children and Families, including the Office of Community Services, has a significant reach into rural America funding a wide range of services and projects that help rural families and communities.

Statutory Authority: This program is authorized by Sections 674(b)(2)(A) and 678A of the CSBG Act, as amended (42 U.S.C. 9903(b)(2)(A) and 9913).

Christopher Beach,
Senior Grants Policy Specialist, Office of Administration.

[FR Doc. 2016-08506 Filed 4-12-16; 8:45 am]

BILLING CODE 4184-27-P